DEPARTMENT OF HEALTH AND HUMAN SERVICES

National Institutes of Health

National Institute on Aging Amended Notice of Meeting

Notice is hereby given of a change in the meeting of the National Institute on Aging Special Emphasis Panel, May 09, 2016, 12:00 p.m. to May 09, 2016, 04:00 p.m., National Institute on Aging, Gateway Building, 7201 Wisconsin Ave., 2C212, Bethesda, MD 20892 which was published in the Federal Register on March 25, 2016, 81FR16189.

The meeting notice is amended to change the time of the meeting on May 9, 2016 from 12:00 p.m. to 4:00 p.m. to the new time of 9:30 a.m. to 1:30 p.m. The meeting is closed to the public.

Dated: March 28, 2016.
Melanie J. Gray,
Program Analyst, Office of Federal Advisory Committee Policy.

[FR Doc. 2016-07500 Filed 4-1-16; 8:45 am]

BILLING CODE 4140-01-P